SMALL BUSINESS ADMINISTRATION

Psilos Group Partners II SBIC, L.P; License No. 02/72-0617; Notice Seeking Exemption Under Section 312 of the Small Business Investment Act, Conflicts of Interest

Notice is hereby given that Psilos Group Partners II SBIC, L.P., 625 Avenue of the Americas, Fourth Floor, New York, NY 10011, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2000). Psilos Group Partners II SBIC, L.P. proposes to provide equity/debt security financing to Caregiver Services, Inc. The financing is contemplated for national sales force expansion and working capital.

The financing is brought within the purview of Sec. 107.730(a)(1) of the Regulations because Psilos Group Partners, L.P., CCP/Psilos GerAssist, LLC, Psilos Group Partners II, L.P. and Psilos Group Partners IIA, L.P., all Associates of Psilos Group Partners II SBIC, L.P., collectively own more than ten percent of Caregiver Services, Inc.

Notice is hereby given that any interested person may submit written comments on the transaction to the Associate Administrator for Investment, U.S. Small Business Administration, 409 Third Street, SW., Washington, DC 20416.

Dated: November 2, 2004.
Jeffrey Pierson,
Associate Administrator for Investment.

[FR Doc. 04-25227 Filed 11-12-04; 8:45 am]

BILLING CODE 8025-01-P